DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the name of a vessel identified as blocked property that has been removed from OFAC's List of Specially Designated Nationals and Blocked Persons (SDN List). Property and interests in property relating to this vessel are no longer blocked, and U.S. persons are no longer generally prohibited from engaging in transactions relating to this vessel.

DATES: See SUPPLEMENTARY INFORMATION section for applicable date(s).

FOR FURTHER INFORMATION CONTACT: OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On October 25, 2018, OFAC identified the following vessel as property in which a blocked person has an interest pursuant to Executive Order 13551 of August 30, 2010, “Blocking Property of Certain Persons With Respect to North Korea.” On March 27, 2024, OFAC determined that the property and interests in property subject to U.S. jurisdiction of the following vessel are no longer blocked, and therefore the vessel has been removed from the SDN List.

Vessel

JW JEWEL Singapore flag; Secondary sanctions risk: North Korea Sanctions Regulations, sections 510.201 and 510.210; Transactions Prohibited For Persons Owned or Controlled By U.S. Financial Institutions: North Korea Sanctions Regulations section 510.214; Vessel Registration Identification IMO 9402964 (vessel) [DPRK] (Linked To: WT MARINE PTE LTD)

(Authority: E.O. 13551, 75 FR 53837)

Dated: March 27, 2024.
Bradley T. Smith,
Director, Office of Foreign Assets Control, U.S. Department of the Treasury.

[FR Doc. 2024-06889 Filed 4-1-24; 8:45 am]

BILLING CODE 4810-AL-P